INTERNATIONAL TRADE COMMISSION

[Investigation No. 332-543]

Trade, Investment, and Industrial Policies in India: Effects on the U.S. Economy; Addition of Second Day for Public Hearing

AGENCY: United States International Trade Commission.

ACTION: Notice of scheduling a second day for public hearing.

DATES: February 6, 2014.

SUMMARY: To accommodate the larger than expected number of requests to appear at the public hearing in this investigation scheduled to begin on February 13, 2014, the Commission will begin the hearing a day earlier, at 1 p.m. on February 12, 2014, and will continue the hearing at 9:30 a.m. on February 13, 2014 (as previously scheduled). The hearing will be held at the United States International Trade Commission Building, 500 E Street SW., Washington, DC, as previously announced. Commission staff is working with persons who filed requests to appear as to the day on which they appear. Requests to appear were due by January 21, 2014. All other dates and deadlines, including with respect to the filing of pre- and post-hearing briefs and statements and written submissions, remain the same as in the Commission's notice of investigation and hearing in this investigation, which was published in the Federal Register on September 5, 2013 (78 FR 54677).

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Bill Powers (202-708-5405 or william.powers@usitc.gov) or Deputy Project Leader Renee Berry (202-205-3498 or renee.berry@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

By order of the Commission.
Issued: February 6, 2014.
Lisa R. Barton,
Acting Secretary to the Commission.

[FR Doc. 2014-02915 Filed 2-10-14; 8:45 am]

BILLING CODE 7020-02-P